INTERNATIONAL TRADE COMMISSION

[Investigation Nos. 701-TA-447 and 731-TA-1116 (Final)]

Circular Welded Carbon-Quality Steel Pipe From China

Determination

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from China of circular welded carbon-quality steel pipe, provided for in subheadings 7306.19.10, 7306.19.51, 7306.30.10, 7306.30.50, 7306.50.10, and 7306.50.50 of the Harmonized Tariff Schedule of the United States, that have been found by the Department of Commerce (Commerce) to be subsidized by the Government of China and sold in the United States at less than fair value (LTFV).² ³

¹ The record is defined in sec. 207.2(f) of the Commission's Rules of Practice and Procedure (19 CFR 207.2(f)).

² Commissioner Dean A. Pinkert recused himself to avoid any conflict of interest or appearance of a conflict.

³ The Commission further determines that critical circumstances do not exist with respect to those imports of the subject merchandise from China that were subject to the affirmative critical circumstances determination by the Department of Commerce.

Background

The Commission instituted these investigations effective June 7, 2007, following receipt of a petition filed with the Commission and Commerce by Allied Tube & Conduit, Harvey, IL; IPSCO Tubulars, Inc., Camanche, IA; Northwest Pipe Co., Portland, OR; Sharon Tube Co., Sharon, PA; Western Tube & Conduit Corp., Long Beach, CA; Wheatland Tube Co., Collingswood, NJ; and the United Steelworkers, Pittsburgh, PA. The final phase of the investigations was scheduled by the Commission following notification of preliminary determinations by Commerce that imports of welded carbon-quality steel pipe from China were being subsidized within the meaning of section 703(b) of the Act (19 U.S.C. 1671b(b)) and being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of February 5, 2008 (73 FR 6738). The hearing was held in Washington, DC, on May 13, 2008, and all persons who requested the opportunity were permitted to appear in person or by counsel.

The Commission transmitted its determinations in these investigations to the Secretary of Commerce on July 15, 2008. The views of the Commission are contained in USITC Publication 4019 (July 2008), entitled Circular Welded Carbon-Quality Steel Pipe From China: Investigation Nos. 701-TA-447 and 731-TA-1116 (Final).

By order of the Commission.
Issued: July 15, 2008.
Marilyn R. Abbott,
Secretary to the Commission.

[FR Doc. E8-16519 Filed 7-18-08; 8:45 am]

BILLING CODE 7020-02-P